SECURITIES AND EXCHANGE COMMISSION

[Release No. 34-49669A; File No. S7-24-89]

Joint Industry Plan; Notice of Filing and Summary Effectiveness of Amendment No.13C to the Reporting Plan for Nasdaq-Listed Securities Traded on Exchanges on an Unlisted Trading Privilege Basis; Submitted by the National Association of Securities Dealers, Inc., the Boston Stock Exchange, Inc., the Chicago Stock Exchange, Inc., the Cincinnati Stock Exchange, Inc., the Pacific Exchange, Inc., the American Stock Exchange LLC, and the Philadelphia Stock Exchange, Inc.

May 28, 2004.

Correction

In FR Document No. 04-11177 beginning on page 28182 for Tuesday, May 18, 2004, footnote 6 on page 28183 was incorrectly stated. The footnote should read as follows:

⁶ Archipelago Exchange (ArcaEx), a wholly-owned subsidiary of Archipelago Holdings, L.L.C. and the equities trading facility of PCX Equities, Inc. and PCX were elected co-chairs of the Operating Committee for the Joint Self-Regulatory Organization Plan Governing the Collection, Consolidation and Dissemination of Quotation and Transaction Information for Nasdaq-Listed Securities Traded on Exchanges on an Unlisted Trading Privilege Basis (“Nasdaq UTP Plan” or “Plan”) by the Participants.

For the Commission, by the Division of Market Regulation, pursuant to delegated authority.¹
¹ 17 CFR 200.30-3(a)(27).
Margaret H. McFarland,
Deputy Secretary.

[FR Doc. 04-12689 Filed 6-3-04; 8:45 am]

BILLING CODE 8010-01-P